DEPARTMENT OF TRANSPORTATION

Federal Aviation Administration

14 CFR Part 39

[Docket No. FAA-2016-9521; Directorate Identifier 2016-NM-061-AD]

RIN 2120-AA64

Airworthiness Directives; Airbus Defense and Space S.A. (Formerly Known as Construcciones Aeronauticas, S.A.) Airplanes

AGENCY: Federal Aviation Administration (FAA), DOT.

ACTION: Notice of proposed rulemaking (NPRM).

SUMMARY: We propose to adopt a new airworthiness directive (AD) for all Airbus Defense and Space S.A. Model CN-235, CN-235-100, CN-235-200, CN-235-300, and C-295 airplanes. This proposed AD was prompted by reports of excessive play between bushings and their respective fitting housings at certain elevator fittings. This proposed AD would require a one-time detailed inspection and repetitive eddy current inspections of the elevator hinge fitting and bracket assembly, and corrective actions if necessary. We are proposing this AD to address the unsafe condition on these products.

DATES: We must receive comments on this proposed AD by February 21, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this NPRM, contact Airbus Defense and Space, Services/Engineering Support, Avenida de Aragón 404, 28022 Madrid, Spain; fax +34 91 585 31 27; email MTA.TechnicalService@airbus.com. You may view this service information at the FAA, Transport Airplane Directorate, 1601 Lind Avenue SW., Renton, WA. For information on the availability of this material at the FAA, call 425-227-1221.

Examining the AD Docket

You may examine the AD docket on the Internet at http://www.regulations.gov by searching for and locating Docket No. FAA-2016-9521; or in person at the Docket Management Facility between 9 a.m. and 5 p.m., Monday through Friday, except Federal holidays. The AD docket contains this proposed AD, the regulatory evaluation, any comments received, and other information. The street address for the Docket Operations office (telephone: 800-647-5527) is in the ADDRESSES section. Comments will be available in the AD docket shortly after receipt.

FOR FURTHER INFORMATION CONTACT: Shahram Daneshmandi, Aerospace Engineer, International Branch, ANM-116, Transport Airplane Directorate, FAA, 1601 Lind Avenue SW., Renton, WA 98057-3356; telephone: 425-227-1112; fax: 425-227-1149.

SUPPLEMENTARY INFORMATION:

Comments Invited

We invite you to send any written relevant data, views, or arguments about this proposed AD. Send your comments to an address listed under the ADDRESSES section. Include “Docket No. FAA-2016-9521; Directorate Identifier 2016-NM-061-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Union, has issued EADS AD 2016-0075, dated April 19, 2016 (referred to after this as the Mandatory Continuing Airworthiness Information, or “the MCAI”), to correct an unsafe condition for all Airbus Defense and Space S.A. Model CN-235, CN-235-100, CN-235-200, CN-235-300, and C-295 airplanes. The MCAI states:

Excessive play between bushings and their respective fitting housing was reported at Stabilizer Station (STA) 4850, affecting the outboard and inboard elevator hinge fittings and attachment fittings; and the horizontal stabilizer elevator linkage. Additionally, excessive misalignment was detected between the elevator hinge fittings and the elevator brackets during further analysis of the reported cases. Furthermore, an occurrence of an elevator hinge fitting crack was reported.

This condition, if not detected and corrected, could lead to failure or detachment of any of the affected structural parts, possibly resulting in reduced control of the aeroplane.

To address this potentially unsafe condition, Airbus Defence & Space (D&S) issued Alert Operator Transmissions (AOT) AOT-CN235-55-0001 Revision 2 and AOT-C295-55-0001 Revision 2 to provide inspection instructions to detect misalignment between the elevator hinge fittings and the elevator brackets. Additionally, Airbus D&S issued AOT-CN235-55-0003 and AOT-C295-55-0003 to provide inspection instructions to detect cracking of elevator hinge fitting and attachment fitting.

For the reasons described above, this [EASA] AD requires a one-time [detailed] inspection of the elevator hinge fittings and the elevator brackets, repetitive [eddy current] inspections of elevator hinge fittings and attachment fittings, and depending on findings, accomplishment of applicable corrective action(s) [e.g. repair(s)].

You may examine the MCAI in the AD docket on the Internet at http://www.regulations.gov by searching for and locating Docket No. FAA-2016-9521.

Related Service Information Under 1 CFR Part 51

Airbus Defense and Space S.A. has issued the following Alert Operators Transmissions (AOT).

• Airbus Defense and Space S.A. AOT AOT-CN235-55-0001, Revision 2, dated March 10, 2015. The service information describes procedures for a detailed visual inspection of the elevator hinge fitting and bracket assembly to detect excessive play between bushings and their respective fitting housings, and to detect cracks; and corrective actions if necessary.

• Airbus Defense and Space S.A. AOT AOT-CN235-55-0003, dated December 22, 2015. The service information describes procedures for repetitive eddy current inspections to detect cracks in the elevator hinge fitting and bracket assembly, and corrective actions if necessary.

• Airbus Defense and Space S.A. AOT AOT-C295-55-0001, Revision 2, dated April 09, 2015. The service information describes procedures for a detailed visual inspection of the elevator hinge fitting and bracket assembly to detect excessive play between bushings and their respective fitting housings, and to detect cracks; and corrective actions if necessary.

• Airbus Defense and Space S.A. AOT AOT-C295-55-0003, dated December 22, 2015. The service information describes procedures for repetitive eddy current inspections to detect cracks in the elevator hinge fitting and bracket assembly, and corrective actions if necessary.

These documents are distinct since they apply to different airplane models in different configurations. This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Differences Between This Proposed AD and the MCAI or Service Information

The MCAI allows credit for an inspection done in accordance with the following Airbus Defense and Space S.A. AOTs, as applicable:

• AOT-CN235-55-0001, dated December 16, 2014, or

• AOT-C295-55-0001, dated December 16, 2014.

This proposed AD does not give credit for accomplishing those initial issues of the service information because the inspection requirements are different from the initial issues of the service information in both Revision 1 and Revision 2 of Airbus Defense and Space AOT AOT-CN235-55-0001, and AOT AOT-C295-55-0001.

Also, the MCAI identifies a date for Revision 1 of Airbus Defense and Space S.A. AOT AOT-C295-55-0001, which was corrected by Revision 2 of the same service information. Paragraph (m), “Credit for Previous Actions,” of this proposed AD shows the correct date.

Costs of Compliance

We estimate that this proposed AD affects 14 airplanes of U.S. registry.

We estimate the following costs to comply with this proposed AD:

Estimated Costs
Action | Labor cost | Parts cost | Cost per product | Cost on U.S. operators
Inspection | 2 work-hours × $85 per hour = $170 per inspection cycle | $0 | $170 per inspection cycle | $2,380 per inspection cycle.

We estimate the following costs to do any necessary repairs that would be required based on the results of the proposed inspection. We have no way of determining the number of airplanes that might need this repair:

On-Condition Costs
Action | Labor cost | Parts cost | Cost per product
Repair | 45 work-hours × $85 per hour = $3,825 | $10,000 | $13,825

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus Defense and Space S.A. (Formerly Known as Construcciones Aeronauticas, S.A.): Docket No. FAA-2016-9521; Directorate Identifier 2016-NM-061-AD.

(a) Comments Due Date

We must receive comments by February 21, 2017.

(b) Affected ADs

None.

(c) Applicability

This AD applies to Airbus Defense and Space S.A. (formerly known as Construcciones Aeronauticas, S.A.) Model CN-235, CN-235-100, CN-235-200, CN-235-300, and C-295 airplanes, certificated in any category, all manufacturer serial numbers.

(d) Subject

Air Transport Association (ATA) of America Code 55, Stabilizers.

(e) Reason

This AD was prompted by reports of excessive play between bushings and their respective fitting housings at certain elevator fittings. We are issuing this AD to prevent excessive play between bushings and their respective fitting housings, which could lead to failure or detachment of any of the affected structural parts, with a possible result of reduced control of the airplane.

(f) Compliance

Comply with this AD within the compliance times specified, unless already done.

(g) One-Time Detailed Visual Inspection

Before exceeding 600 flight hours since first flight of the airplane, or within 300 flight hours after the effective date of this AD, whichever occurs later, but not before exceeding 300 flight hours since first flight of the airplane: Do a detailed visual inspection of the elevator hinge fitting and bracket assembly to detect excessive play between bushings and their respective fitting housings, and to detect cracks, in accordance with the instructions of Airbus Defense and Space S.A. Alert Operators Transmission (AOT) AOT-CN235-55-0001, Revision 2, dated March 10, 2015; or AOT AOT-C295-55-0001, Revision 2, dated April 9, 2015; as applicable.

(h) Corrective Action for Discrepancies Found During Detailed Visual Inspection

If, during the inspection required by paragraph (g) of this AD, any discrepancy is detected, as defined in the instructions of Airbus Defense and Space S.A. AOT AOT-CN235-55-0001, Revision 2, dated March 10, 2015; or AOT AOT-C295-55-0001 Revision 2, dated April 9, 2015; as applicable: Before further flight, accomplish applicable corrective actions, in accordance with the instructions of Airbus Defense and Space S.A. AOT AOT-CN235-55-0001, Revision 2, dated March 10, 2015; or AOT AOT-C295-55-0001, Revision 2, dated April 9, 2015; as applicable. Where Airbus Defense and Space S.A. AOT AOT-CN235-55-0001, Revision 2, dated March 10, 2015; or AOT AOT-C295-55-0001 Revision 2, dated April 9, 2015; specifies to contact Airbus Defense and Space S.A. for corrective actions, before further flight, accomplish corrective actions in accordance with the procedures specified in paragraph (n)(2) of this AD.

(i) Repetitive Eddy Current Inspections—Model CN-235, CN-235-100, CN-235-200, and CN-235-300 Airplanes

For Model CN-235, CN-235-100, CN-235-200, and CN-235-300 airplanes: Do the actions required by paragraphs (i)(1) and (i)(2) of this AD.

(1) Within the applicable compliance time specified in table 1 to paragraph (i)(1) of this AD: Do an eddy current inspection to detect cracks in the elevator hinge fitting and bracket assembly, in accordance with the instructions of Airbus Defense and Space S.A. AOT AOT-CN235-55-0003, dated December 22, 2015.

Table 1 to Paragraph (i)(1) of This AD—Initial Compliance Times for Model CN-235, CN-235-100, CN-235-200, and CN-235-300 Airplanes
Manufacturer's Serial Number (MSN) | Elevator hinge fitting (part No.) | Compliance time for initial eddy current inspection (whichever occurs later)
MSN001 through MSN154 inclusive | 35-31193-0201 35-31193-0202 | Before exceeding 8,800 flight cycles since first flight of the airplane; or before exceeding the applicable flight hours since first flight of the airplane as calculated in table 2 to paragraph (i)(1) of this AD; whichever occurs first | Within 300 flight cycles after the effective date of this AD.
MSN155 through MSN241 inclusive | 35-31193-0501 35-31193-0502 | Before exceeding 3,600 flight cycles since first flight of the airplane; or before exceeding the applicable flight hours since first flight of the airplane as calculated in table 2 to paragraph (i)(1) of this AD; whichever occurs first | Within 300 flight cycles after the effective date of this AD.
MSN242 through MSN999 inclusive | 35-31193-0503 35-31193-0504 | Before exceeding 1,000 flight cycles since first flight of the airplane; or before exceeding the applicable flight hours since first flight of the airplane as calculated in table 2 to paragraph (i)(1) of this AD; whichever occurs first | Within 50 flight cycles after the effective date of this AD.

Table 2 to Paragraph (i)(1) of This AD—Flight Cycles to Flight Hours Conversion Since First Flight of the Airplane
CN-235 model/version | Civilian or military type certificate | Flight cycles to flight hours conversion
CN-235 (Commercial Identification S10) | Civilian | Flight hours since first flight of the airplane = the applicable flight cycles from table 1 to paragraph (i)(1) of this AD × 0.861.
CN-235-100 | Civilian | Flight hours since first flight of the airplane = the applicable flight cycles from table 1 to paragraph (i)(1) of this AD × 0.861.
CN-235-200 | Civilian | Flight hours since first flight of the airplane = the applicable flight cycles from table 1 to paragraph (i)(1) of this AD × 0.806.
CN-235-300 | Civilian | Flight hours since first flight of the airplane = the applicable flight cycles from table 1 to paragraph (i)(1) of this AD × 0.861.
CN-235 (Commercial Identification S10M) | Military | Flight hours since first flight of the airplane = the applicable flight cycles from table 1 to paragraph (i)(1) of this AD × 0.861.
CN-235-100M | Military | Flight hours since first flight of the airplane = the applicable flight cycles from table 1 to paragraph (i)(1) of this AD × 2.222.
CN-235-200M | Military | Flight hours since first flight of the airplane = the applicable flight cycles from table 1 to paragraph (i)(1) of this AD × 2.222.
CN-235-300M | Military | Flight hours since first flight of the airplane = the applicable flight cycles from table 1 to paragraph (i)(1) of this AD × 2.167.
CN-235-100M/IR01 | Military | Flight hours since first flight of the airplane = the applicable flight cycles from table 1 to paragraph (i)(1) of this AD × 1.389.
CN-235-100M/EA02V | Military | Flight hours since first flight of the airplane = the applicable flight cycles from table 1 to paragraph (i)(1) of this AD × 1.389.
CN-235-200M/CL02 | Military | Flight hours since first flight of the airplane = the applicable flight cycles from table 1 to paragraph (i)(1) of this AD × 1.389.
CN-235/EA01F (Commercial Identification S10M) | Military | Flight hours since first flight of the airplane = the applicable flight cycles from table 1 to paragraph (i)(1) of this AD × 0.861.
CN-235-300/SM01 | Civilian | Flight hours since first flight of the airplane = the applicable flight cycles from table 1 to paragraph (i)(1) of this AD × 3.125.
CN-235-300M/CG01, -300M/GC01, -300/MM01, -300/CL04 | Military | Flight hours since first flight of the airplane = the applicable flight cycles from table 1 to paragraph (i)(1) of this AD × 3.125.

(2) Repeat the eddy current inspection specified in paragraph (i)(1) of this AD thereafter within the applicable interval specified in table 3 to paragraph (i)(2) of this AD.

Table 3 to Paragraph (i)(2) of This AD—Repetitive Inspection Intervals
Manufacturer's serial No. | Elevator attachment fitting (P/N) | Compliance time for repetitive eddy current inspections
MSN001 through MSN154 inclusive | 35-31193-0201 35-31193-0202 | Before exceeding 1,300 flight cycles since the most recent inspection; or before exceeding the applicable flight hours since the most recent inspection as calculated in table 4 to paragraph (i)(2) of this AD; whichever occurs first.
MSN155 through MSN241 inclusive | 35-31193-0501 35-31193-0502 | Before exceeding 1,000 flight cycles since the most recent inspection; or before exceeding the applicable flight hours since the most recent inspection as calculated in table 4 to paragraph (i)(2) of this AD; whichever occurs first.
MSN242 through MSN999 inclusive | 35-31193-0503 35-31193-0504 | Before exceeding 1,000 flight cycles since the most recent inspection; or before exceeding the applicable flight hours since the most recent inspection as calculated in table 4 to paragraph (i)(2) of this AD; whichever occurs first.

Table 4 to Paragraph (i)(2) of This AD—Flight Cycles to Flight Hours Conversion for Repetitive Inspections
CN-235 model/version | Civilian or military type certificate | Flight cycles to flight hours conversion
CN-235 (Commercial Identification S10) | Civilian | Flight hours since most recent inspection = the applicable flight cycles from table 3 to paragraph (i)(2) of this AD × 0.861.
CN-235-100 | Civilian | Flight hours since most recent inspection = the applicable flight cycles from table 3 to paragraph (i)(2) of this AD × 0.861.
CN-235-200 | Civilian | Flight hours since most recent inspection = the applicable flight cycles from table 3 to paragraph (i)(2) of this AD × 0.806.
CN-235-300 | Civilian | Flight hours since first flight of the airplane = the applicable flight cycles from table 3 to paragraph (i)(2) of this AD × 0.861.
CN-235 (Commercial Identification S10M) | Military | Flight hours since most recent inspection = the applicable flight cycles from table 3 to paragraph (i)(2) of this AD × 0.861.
CN-235-100M | Military | Flight hours since most recent inspection = the applicable flight cycles from table 3 to paragraph (i)(2) of this AD × 2.222.
CN-235-200M | Military | Flight hours since most recent inspection = the applicable flight cycles from table 3 to paragraph (i)(2) of this AD × 2.222.
CN-235-300M | Military | Flight hours since most recent inspection = the applicable flight cycles from table 3 to paragraph (i)(2) of this AD × 2.167.
CN-235-100M/IR01 | Military | Flight hours since most recent inspection = the applicable flight cycles from table 3 to paragraph (i)(2) of this AD × 1.389.
CN-235-100M/EA02V | Military | Flight hours since most recent inspection = the applicable flight cycles from table 3 to paragraph (i)(2) of this AD × 1.389.
CN-235-200M/CL02 | Military | Flight hours since most recent inspection = the applicable flight cycles from table 3 to paragraph (i)(2) of this AD × 1.389.
CN-235/EA01F (Commercial Identification S10M) | Military | Flight hours since most recent inspection = the applicable flight cycles from table 3 to paragraph (i)(2) of this AD × 0.861.
CN-235-300/SM01 | Civilian | Flight hours since most recent inspection = the applicable flight cycles from table 3 to paragraph (i)(2) of this AD × 3.125.
CN-235-300M/CG01, -300M/GC01, -300/MM01, -300/CL04 | Military | Flight hours since most recent inspection = the applicable flight cycles from table 3 to paragraph (i)(2) of this AD × 3.125.

(j) Repetitive Eddy Current Inspections—Model C-295 Airplanes

For Model C-295 airplanes: Do the actions required by paragraphs (j)(1) and (j)(2) of this AD.

(1) At the later of the times specified in table 5 to paragraph (j)(1) of this AD: Do an eddy current inspection of the elevator hinge fitting and attachment fitting to detect cracks, in accordance with the instructions of Airbus Defense and Space S.A. AOT AOT-C295-55-0003, dated December 22, 2015.

Table 5 to Paragraph (j)(1) of This AD—Initial Compliance Times for Model C-295 Airplanes
C-295 model/version | Manufacturer's Serial Number (MSN) | Elevator hinge fitting (part no.) | Compliance time for initial eddy current inspection (whichever occurs later) |
C-295M/EA03(01-10), RJ01 (01-02), PO01(01-08), AG01(01-06), BR01(01-03) | MSN001 through MSN030 inclusive | 95-31193-0501 95-31193-0502 | Since first flight of the airplane: Before exceeding 3,600 flight cycles; or before exceeding 5,040 flight hours; whichever occurs first | Within 300 flight cycles after the effective date of this AD.
C-295M (from MSN 031) | MSN031 through MSN999 inclusive | 95-31193-0503 95-31193-0504 | Since first flight of the airplane: Before exceeding 1,000 flight cycles; or before exceeding 1,400 flight hours; whichever occurs first | Within 50 flight cycles after the effective date of this AD.
C-295M/FI01, FI02 | MSN031 through MSN999 inclusive | 95-31193-0503 95-31193-0504 | Since first flight of the airplane: Before exceeding 1,000 flight cycles; or before exceeding 1,000 flight hours; whichever occurs first | Within 50 flight cycles after the effective date of this AD.
C-295M/PG01 | MSN031 through MSN999 inclusive | 95-31193-0503 95-31193-0504 | Since first flight of the airplane: Before exceeding 1,000 flight cycles; or before exceeding 1,400 flight hours; whichever occurs first | Within 50 flight cycles after the effective date of this AD.
C-295M/PG02, PG03 | MSN031 through MSN999 inclusive | 95-31193-0503 95-31193-0504 | Since first flight of the airplane: Before exceeding 1,000 flight cycles; or before exceeding 1,900 flight hours; whichever occurs first | Within 50 flight cycles after the effective date of this AD.
C-295M/CH01 | MSN031 through MSN999 inclusive | 95-31193-0503 95-31193-0504 | Since first flight of the airplane: Before exceeding 1,000 flight cycles; or before exceeding 1,200 flight hours; whichever occurs first | Within 50 flight cycles after the effective date of this AD.
C-295M/CH02, OM03 | MSN031 through MSN999 inclusive | 95-31193-0503 95-31193-0504 | Since first flight of the airplane: Before exceeding 1,000 flight cycles; or before exceeding 1,500 flight hours; whichever occurs first | Within 50 flight cycles after the effective date of this AD.
C-295MW | MSN031 through MSN999 inclusive | 95-31193-0503 95-31193-0504 | Since first flight of the airplane: Before exceeding 1,000 flight cycles; or before exceeding 1,400 flight hours; whichever occurs first | Within 50 flight cycles after the effective date of this AD.

(2) Repeat the eddy current inspection specified in paragraph (j)(1) of this AD thereafter within the applicable interval specified in table 6 to paragraph (j)(2) of this AD.

Table 6 to Paragraph (j)(2) of This AD—Repetitive Inspection Intervals for Model C-295 Airplanes
C-295 model/version | Manufacturer's Serial Number (MSN) | Elevator hinge fitting (part no.) | Compliance time for repetitive eddy current inspections
C-295M/EA03(01-10), RJ01 (01-02), PO01(01-08), AG01(01-06), BR01(01-03) | MSN001 through MSN030 inclusive | 95-31193-0501 95-31193-0502 | Before exceeding 1,000 flight cycles since the most recent inspection; or before exceeding 1,400 flight hours since the most recent inspection; whichever occurs first.
C-295M (from MSN 031) | MSN031 through MSN999 inclusive | 95-31193-0503 95-31193-0504 | Before exceeding 1,000 flight cycles since the most recent inspection; or before exceeding 1,400 flight hours since the most recent inspection; whichever occurs first.
C-295M/FI01, FI02 | MSN031 through MSN999 inclusive | 95-31193-0503 95-31193-0504 | Before exceeding 1,000 flight cycles since the most recent inspection; or before exceeding 1,000 flight hours since the most recent inspection; whichever occurs first.
C-295M/PG01 | MSN031 through MSN999 inclusive | 95-31193-0503 95-31193-0504 | Before exceeding 1,000 flight cycles since the most recent inspection; or before exceeding 1,400 flight hours since the most recent inspection; whichever occurs first.
C-295M/PG02, PG03 | MSN031 through MSN999 inclusive | 95-31193-0503 95-31193-0504 | Before exceeding 1,000 flight cycles since the most recent inspection; or before exceeding 1,900 flight hours since the most recent inspection; whichever occurs first.
C-295M/CH01 | MSN031 through MSN999 inclusive | 95-31193-0503 95-31193-0504 | Before exceeding 1,000 flight cycles since the most recent inspection; or before exceeding 1,200 flight hours since the most recent inspection; whichever occurs first.
C-295M/CH02, OM03 | MSN031 through MSN999 inclusive | 95-31193-0503 95-31193-0504 | Before exceeding 1,000 flight cycles since the most recent inspection; or before exceeding 1,500 flight hours since the most recent inspection; whichever occurs first.
C-295MW | MSN031 through MSN999 inclusive | 95-31193-0503 95-31193-0504 | Before exceeding 1,000 flight cycles since the most recent inspection; or before exceeding 1,400 flight hours since the most recent inspection; whichever occurs first.

(k) Corrective Action for Discrepancies Found During Eddy Current Inspection

If, during any inspection required by paragraph (i)(1), (i)(2), (j)(1), or (j)(2) of this AD, any crack is detected, as defined in Airbus Defense and Space S.A. AOT AOT-CN235-55-0003, dated December 22, 2015; or AOT AOT-C295-55-0003, dated December 22, 2015; as applicable: Before further flight, accomplish applicable corrective actions in accordance with the instructions of Airbus Defense and Space S.A. AOT AOT-CN235-55-0003, dated December 22, 2015; or AOT AOT-C295-55-0003, dated December 22, 2015; as applicable. Where Airbus Defense and Space S.A. AOT AOT-CN235-55-0003, dated December 22, 2015; or AOT AOT-C295-55-0003, dated December 22, 2015; specifies to contact Airbus Defense and Space S.A. for corrective actions, before further flight, accomplish corrective actions in accordance with the procedures specified in paragraph (n)(2) of this AD.

(l) Provision Regarding Terminating Action

Accomplishing corrective actions, as required by paragraph (k) of this AD, does not constitute terminating action for the repetitive inspections required by paragraphs (i)(2) and (j)(2) of this AD, unless explicitly stated in the approved method of compliance for the corrective action.

(m) Credit for Previous Actions

This paragraph provides credit for the actions required by paragraph (g) of this AD, if those actions were performed before the effective date of this AD using Airbus Defense and Space S.A. AOT AOT-CN235-55-0001, Revision 1, dated March 6, 2015; or AOT AOT-C295-55-0001, Revision 1, dated May 29, 2014.

(n) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Shahram Daneshmandi, Aerospace Engineer, International Branch, ANM-116, Transport Airplane Directorate, FAA, 1601 Lind Avenue SW., Renton, WA 98057-3356; telephone: 425-227-1112; fax: 425-227-1149. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Branch, ANM-116, Transport Airplane Directorate, FAA; or EASA; or Airbus Defense and Space S.A.'s EASA DOA. If approved by the DOA, the approval must include the DOA-authorized signature.

(o) Related Information

(1) Refer to Mandatory Continuing Airworthiness Information (MCAI) EASA AD 2016-0075, dated April 19, 2016, for related information. This MCAI may be found in the AD docket on the Internet at http://www.regulations.gov by searching for and locating Docket No. FAA-2016-9521.

(2) For service information identified in this AD, contact Airbus Defense and Space, Services/Engineering Support, Avenida de Aragón 404, 28022 Madrid, Spain; fax +34 91 585 31 27; email MTA.TechnicalService@airbus.com. You may view this service information at the FAA, Transport Airplane Directorate, 1601 Lind Avenue SW., Renton, WA. For information on the availability of this material at the FAA, call 425-227-1221.

Issued in Renton, Washington, on December 16, 2016.
Ross Landes,
Acting Manager, Transport Airplane Directorate, Aircraft Certification Service.

[FR Doc. 2016-31365 Filed 1-4-17; 8:45 am]

BILLING CODE 4910-13-P